FEDERAL COMMUNICATIONS COMMISSION

47 CFR Part 73

[DA 06-795; MB Docket No. 05-274, RM-11274; MB Docket No. 05-275, RM-11275]

Radio Broadcasting Services; Coalgate, OK; and Silver Springs Shores, FL

AGENCY: Federal Communications Commission.

ACTION: Final rule.

SUMMARY: This document allots new channels to the communities of Coalgate, Oklahoma and Silver Springs Shores, Florida. See SUPPLEMENTARY INFORMATION, infra.

DATES: Effective May 22, 2006. The window period for filing applications for these channels will not be opened at this time. Instead, the issue of opening filing windows for these allotments for auction will be addressed by the Commission in a subsequent order.

ADDRESSES: Federal Communications Commission, 445 Twelfth Street, SW., Washington, DC 20554.

FOR FURTHER INFORMATION CONTACT: R. Barthen Gorman, Media Bureau, (202) 418-2180.

SUPPLEMENTARY INFORMATION: This is a synopsis of the Commission's Report and Order, MB Docket Nos. 05-274 and 05-275, adopted April 5, 2006, and released April 7, 2006. The full text of this Commission decision is available for inspection and copying during normal business hours in the FCC Information Center, Portals II, 445 12th Street, SW., Room CY-A257, Washington, DC 20554. The complete text of this decision also may be purchased from the Commission's duplicating contractor, Best Copy and Printing, Inc., 445 12th Street, SW., Room CY-B402, Washington, DC 20554, (800) 378-3160, or via the company's Web site, http://www.bcpiweb.com. The Commission will send a copy of this Report and Order in a report to be sent to Congress and the Government Accountability Office pursuant to the Congressional Review Act, see 5 U.S.C. 801(a)(1)(A).

The Audio Division, at the request of Charles Crawford, allots Channel 242A at Coalgate, Oklahoma, as the community's second local commercial FM transmission service. See 70 FR 59292 (October 10, 2005). Channel 242A can be allotted to Coalgate in compliance with the Commission's minimum distance with a site restriction of 6.9 kilometers (4.3 miles) south of Coalgate. The coordinates for Channel 242A at Coalgate are 34-35-00 North Latitude and 96-10-00 West Longitude.

The Audio Division, at the request of Carrie Tutera Martin, allots Channel 259A at Silver Springs Shores, Florida, as the community's first local aural transmission service. See 70 FR 59292 (October 10, 2005). Channel 259A can be allotted to Silver Springs Shores in compliance with the Commission's minimum distance separation requirements with a site restriction of 5.0 kilometers (3.1 miles) northwest of Silver Springs Shores, Florida. The coordinates for Channel 259A at Silver Springs Shores are 29-08-09 North Latitude and 82-02-33 West Longitude.

List of Subjects in 47 CFR part 73

Radio, Radio broadcasting.

Part 73 of Title 47 of the Code of Federal Regulations is amended as follows:

PART 73—RADIO BROADCAST SERVICES

1. The authority citation for part 73 continues to read as follows:

Authority: 47 U.S.C. 154, 303, 334, 336.

§ 73.202 [Amended]

2. Section 73.202(b), the Table of FM Allotments under Florida, is amended by adding Silver Springs Shore, Channel 259A.

3. Section 73.202(b), the Table of FM Allotments under Oklahoma, is amended by adding Channel 242A at Coalgate.

Federal Communications Commission.
John A. Karousos,
Assistant Chief, Audio Division, Media Bureau.

[FR Doc. 06-3936 Filed 4-25-06; 8:45 am]

BILLING CODE 6712-01-P